ENVIRONMENTAL PROTECTION AGENCY

[FRL-9902-78-OA]

Notification of a Public Meeting of the Chartered Science Advisory Board

AGENCY: Environmental Protection Agency (EPA).

ACTION: Notice.

SUMMARY: The Environmental Protection Agency (EPA) Science Advisory Board (SAB) Staff Office announces a public meeting of the chartered SAB to: (1) Receive a briefing on ORD's research program; (2) conduct a quality review of a draft SAB report on recommendations for the Scientific and Technological Achievement Awards; (3) receive briefings on EPA climate science and research; and (4) discuss information provided by the EPA on actions in the semi-annual regulatory agenda and their supporting science.

DATES: The public meeting will be held on Wednesday December 4, 2013 from 10:30 a.m. to 5:00 p.m. and Thursday December 5, 2013 from 8:00 a.m. to 1:00 p.m.

ADDRESSES: The meeting will be held at the Washington Plaza Hotel, 10 Thomas Circle NW., Washington, DC 20005.

FOR FURTHER INFORMATION CONTACT: Any member of the public who wants further information concerning the meeting may contact Dr. Angela Nugent, Designated Federal Officer (DFO), EPA Science Advisory Board (1400R), U.S. Environmental Protection Agency, 1200 Pennsylvania Avenue NW., Washington, DC 20460; via telephone/voice mail (202) 564-2218, fax (202) 565-2098; or email at nugent.angela@epa.gov. General information concerning the SAB can be found on the EPA Web site at http://www.epa.gov/sab.

SUPPLEMENTARY INFORMATION:

Background

The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public meeting to discuss and deliberate on the topics below.

Briefing on ORD Research Program

The SAB and ORD's Board of Scientific Councilors (BOSC) provided a joint report to the Administrator in September 2012 entitled Implementation of ORD Strategic Research Plans: A Joint Report of the Science Advisory Board and ORD Board of Scientific Counselors (EPA-SAB-12-012). ORD will provide a briefing to update SAB members on recent ORD research efforts and plans to request advice from the SAB in 2014 on ORD's implementation of its strategic research plans.

Quality Review of a Draft SAB Report on Recommendations for the Scientific and Technological Achievement Awards

The EPA has established Science and Technological Achievement Awards (STAA) to honor and recognize EPA employees who have made outstanding contributions in the advancement of science and technology through their research and development activities, as exhibited in publication of their results in peer-reviewed journals. In response to a request from EPA's Office of Research and Development an SAB panel developed a draft report that makes recommendations concerning nominations to the Agency's FY 2013 STAA competition. Background information about this advisory activity can be found on the SAB Web site at http://yosemite.epa.gov/sab/sabproduct.nsf/fedrgstr_activites/2013%20STAA%20Review?OpenDocument.

At the December 4-5, 2013, meeting, the chartered SAB will conduct a quality review of the panel's draft report before it is transmitted to the EPA Administrator. The SAB quality review process ensures that all draft reports developed by SAB panels, committees or workgroups are reviewed and approved by the Chartered SAB before being finalized and transmitted to the EPA Administrator. These reviews are conducted in a public meeting as required by FACA.

Briefings on EPA Climate Science and Research

The chartered SAB has requested an informational briefing from the EPA to inform the SAB about EPA's Climate Action Plan and how the agency plans to support its regulations, programs, and policies with needed science. The SAB has requested this briefing so that the Board can: Better understand upcoming EPA climate-related actions; so that it can be prepared to provide future advice regarding agency climate science and research.

Discussion of Information Provided in the Agency's Semiannual Regulatory Agenda

As part of the EPA's effort to routinely inform the SAB about proposed and planned agency actions that have a scientific or technical basis, the agency provided notice to the SAB that the Office of Management and Budget published the “Unified (Regulatory) Agenda” on the Web on July 3, 2013 (http://www.reginfo.gov/public/do/eAgendaMain). During the December 3-4, 2013 meeting, the SAB will discuss whether it should provide advice and comment on the adequacy of the scientific and technical basis for EPA actions included in the Agenda. This discussion will replace SAB teleconferences originally announced for October 25, 2013 and October 30, 2013 (78 FR 59678) and subsequently cancelled as a result of the federal government shut down.

Availability of Meeting Materials: A meeting agenda and other materials for the meeting will be placed on the SAB Web site at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the EPA's charge, meeting materials, or the group providing advice. Input from the public to the SAB will have the most impact if it provides specific scientific or technical information or analysis for the SAB to consider or if it relates to the clarity or accuracy of the technical information. Members of the public wishing to provide comment should contact the DFO directly.

Oral Statements: In general, individuals or groups requesting an oral presentation at a public meeting will be limited to five minutes. Persons interested in providing oral statements at the December 4-5, 2013, meeting should contact Dr. Angela Nugent, DFO, in writing (preferably via email) at the contact information noted above by November 29, 2013.

Written Statements: Written statements for the December 4-5, 2013, meeting should be received in the SAB Staff Office by November 29, 2013, so that the information may be made available to the SAB for its consideration prior to this meeting. Written statements should be supplied to the DFO in the following formats: either an electronic copy (preferred) via email (acceptable file format: Adobe Acrobat PDF, MS Word, WordPerfect, MS PowerPoint, or Rich Text files in IBM-PC/Windows 98/2000/XP format) or in hard copy with original signature. Submitters are asked to provide electronic versions of each document submitted with and without signatures, because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Nugent at the phone number or email address noted above, preferably at least ten days prior to the meeting, to give the EPA as much time as possible to process your request.

Dated: November 4, 2013.
Thomas H. Brennan,
Deputy Director, EPA Science Advisory Board Staff Office.

[FR Doc. 2013-27141 Filed 11-12-13; 8:45 am]

BILLING CODE 6560-50-P